DEPARTMENT OF COMMERCE

Bureau of Industry and Security

15 CFR Parts 710 Through 729

[Docket No. 990611158-5180-05]

RIN 0694-AB06

Review Under Section 610 of the Regulatory Flexibility Act: Economic Impact of the Chemical Weapons Convention Regulations (CWCR) on Small Business Entities

AGENCY: Bureau of Industry and Security, Commerce.

ACTION: Request for comments.

SUMMARY: This document requests comments on the economic impact of the Chemical Weapons Convention Regulations (CWCR) on small business entities, pursuant to the requirements of Section 610 of the Regulatory Flexibility Act (RFA). The comments sought in this document should be directed to the impact of the CWCR on small business entities, only. The public does not need to re-submit previous comments made during the comment period that closed on February 7, 2005, for the proposed CWCR published on December 7, 2004.

DATES: Comments must be submitted by August 22, 2005.

ADDRESSES: You may submit comments, identified by RIN 0694-AB06, by any of the following methods:

• E-mail: public.comments@bis.doc.gov. Include “RIN 0694-AB06” in the subject line of the message.

• Fax: (202) 482-3355. Please alert the Regulatory Policy Division, by calling (202) 482-2440, if you are faxing comments.

• Mail or Hand Delivery/Courier: Willard Fisher, U.S. Department of Commerce, Bureau of Industry and Security, Regulatory Policy Division, 14th St. & Pennsylvania Avenue, NW., Room 2705, Washington, DC 20230, ATTN: RIN 0694-AB06.

FOR FURTHER INFORMATION CONTACT: For questions of a general or regulatory nature, contact the Regulatory Policy Division, telephone: (202) 482-2440. For program information on declarations, reports, advance notifications, chemical determinations, recordkeeping, inspections and facility agreements, contact the Treaty Compliance Division, Office of Nonproliferation and Treaty Compliance, telephone: (703) 605-4400; for legal questions, contact Rochelle Woodard, Office of the Chief Counsel for Industry and Security, telephone: (202) 482-5301.

SUPPLEMENTARY INFORMATION: Under section 610 of the Regulatory Flexibility Act (5 U.S.C. 601 et seq.) (RFA), the Bureau of Industry and Security (BIS) is required to periodically review all rules issued by the agency that have or will have a significant economic impact upon a substantial number of small entities. The purpose of the review is to determine whether these rules should be continued without change or whether they should be amended or rescinded to minimize any significant economic impact of the rules upon a substantial number of small entities.

As part of this review, BIS is also required to publish each year in the Federal Register a list of the rules that have a significant economic impact on a substantial number of small entities and that, therefore, must be reviewed pursuant to section 610 of the RFA during the succeeding twelve months. The list should include a brief description of each rule, identify the need for and legal basis of each rule, and invite public comment concerning the economic impact of each rule on small entities.

Pursuant to the Department of Commerce's plan for compliance with section 610 of the RFA, BIS undertook a review in 2005 of all rules promulgated during the period between April 1996 and October 2000 that had a significant economic impact on a substantial number of small entities. This review produced only one rule that was subject to a section 610 review: the Chemical Weapons Convention Regulations (CWCR), published in interim form on December 30, 1999 (15 CFR Parts 710-729).

Background on the Chemical Weapons Convention Regulations (CWCR)

The CWCR implement the provisions of the Chemical Weapons Convention Implementation Act of 1998 (CWCIA) (22 U.S.C. 6701 et seq.), which was enacted on October 21, 1998, to implement the Chemical Weapons Convention (CWC). The CWC, which entered into force on April 29, 1997, is an arms control treaty that bans the development, production, stockpiling or use of chemical weapons, and prohibits States Parties to the CWC from assisting or encouraging anyone to engage in a prohibited activity. The CWC provides for declaration and inspection of all States Parties' chemical weapons and chemical weapon production facilities, and oversees the destruction of such weapons and facilities. It also establishes a comprehensive verification scheme and requires the declaration and inspection of facilities that produce, process or consume certain “scheduled” chemicals or unscheduled discrete organic chemicals, many of which have significant commercial applications.

The CWCIA authorizes the United States to require the U.S. chemical industry and other private entities to submit declarations, notifications and other reports and also to provide access for on-site inspections conducted by inspectors sent by the Organization for the Prohibition of Chemical Weapons (OPCW). Executive Order (E.O.) 13128 delegates authority to the Department of Commerce to promulgate regulations, obtain and execute warrants, provide assistance to certain facilities, and carry out appropriate functions to implement the CWC, consistent with the Act.

The December 30, 1999, CWCR interim rule established the compliance requirements of the CWC, as mandated by the provisions of the CWCIA. The interim CWCR set forth the declaration, reporting and inspection requirements for U.S. industry and U.S. persons, as well as the responsibilities of the U.S. Government and BIS in implementing and enforcing the CWC domestically. On December 7, 2004, BIS published a proposed rule that would revise the CWCR to reflect changes to declaration and reporting requirements, clarify certain inspection provisions in the CWCR, and revise other sections of the CWCR that were affected by decisions made by the Organization for the Prohibition of Chemical Weapons (OPCW), the international organization responsible for the implementation and enforcement of the CWC.

Conduct of Review and Request for Comments

In conducting its review, the Department will consider the following factors:

(1) The continued need for the rule;

(2) The nature of complaints or comments received concerning the rule from the public;

(3) The complexity of the rule;

(4) The extent to which the rule overlaps, duplicates or conflicts with other Federal rules, and, to the extent feasible, with State and local governmental rules; and

(5) The length of time since the rule has been evaluated or the degree to which technology, economic conditions, or other factors have changed in the area affected by the rule.

In order to consider these factors and to minimize any significant economic impact of the rule on a substantial number of small entities, the Department solicits comments on the economic impact of the CWCR on small entities.

As mentioned above, BIS published proposed revisions to the CWCR on December 7, 2004 (69 FR 70753), and requested comments on the proposed rule. The comment period for the proposed rule closed on February 7, 2005. BIS is currently reviewing those comments and incorporating any responses into the final CWCR. The comments that are submitted in response to this notice will be considered by BIS, in addition to those previously provided on the December 7, 2004, proposed rule, and BIS will address these comments in any forthcoming final rule. Therefore, comments that were submitted to BIS in response to the December 7, 2004, CWCR proposed rule need not be re-submitted in response to this request for comments. In this notice, BIS is seeking comments on the Chemical Weapons Convention regulations only with regard to the factors to be considered under section 610 of the RFA.

Dated: July 15, 2005.
Matthew S. Borman,
Deputy Assistant Secretary for Export Administration.

[FR Doc. 05-14441 Filed 7-20-05; 8:45 am]

BILLING CODE 3510-33-P